DEPARTMENT OF TRANSPORTATION

Federal Aviation Administration

14 CFR Part 97

[Docket No. 30835; Amdt. No. 3472]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 16, 2012. The compliance date for each SIAP, associated Takeoff Minimums, and ODP is specified in the amendatory provisions.

The incorporation by reference of certain publications listed in the regulations is approved by the Director of the Federal Register as of April 16, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on March 30, 2012.
John McGraw,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 3 May, 2012

Dothan, AL, Dothan Rgnl, COPTER VOR RWY 36, Orig

Dothan, AL, Dothan Rgnl, VOR RWY 14, Amdt 4

Ozark, AL, Blackwell Field, VOR RWY 30, Amdt 6B

Chinle, AZ, Chinle Muni, Takeoff Minimums and Obstacle DP, Orig, CANCELLED

Fort Huachuca Sierra Vista, AZ, Sierra Vista Muni-Libby AAF, RADAR-1, Orig

Fort Huachuca Sierra Vista, AZ, Sierra Vista Muni-Libby AAF, RADAR-2, Orig

Lake Havasu City, AZ, Lake Havasu City, Takeoff Minimums and Obstacle DP, Amdt 2

Lake Havasu City, AZ, Lake Havasu City, VOR/DME-A, Amdt 1

Fullerton, CA, Fullerton Muni, Takeoff Minimums and Obstacle DP, Amdt 5

San Diego/El Cajon, CA, Gillespie Field, RNAV (GPS) RWY 17, Amdt 2

Danbury, CT, Danbury Muni, Takeoff Minimums and Obstacle DP, Amdt 4

Rensselaer, IN, Jasper County, GPS RWY 18, Orig-A, CANCELLED

Rensselaer, IN, Jasper County, NDB RWY 18, Amdt 3A, CANCELLED

Rensselaer, IN, Jasper County, RNAV (GPS) RWY 18, Orig

Rensselaer, IN, Jasper County, RNAV (GPS) RWY 36, Orig

Cheboygan, MI, Cheboygan County, RNAV (GPS) RWY 28, Amdt 2

Gaylord, MI, Gaylord Rgnl, NDB RWY 9, Amdt 13

Gaylord, MI, Gaylord Rgnl, RNAV (GPS) RWY 9, Orig

Gaylord, MI, Gaylord Rgnl, RNAV (GPS) RWY 27, Orig

Gaylord, MI, Gaylord Rgnl, VOR RWY 9, Amdt 2

Gaylord, MI, Gaylord Rgnl, VOR RWY 27, Amdt 2

Lansing, MI, Capital Region Intl, VOR RWY 24, Amdt 9, CANCELLED

Manistique, MI, Schoolcraft County, RNAV (GPS) RWY 10, Orig

Manistique, MI, Schoolcraft County, RNAV (GPS) RWY 28, Orig

Manistique, MI, Schoolcraft County, VOR RWY 28, Amdt 1

Rogers City, MI, Presque Isle County, Takeoff Minimums and Obstacle DP, Amdt 2

Cambridge, MN, Cambridge Muni, NDB RWY 34, Amdt 7

Cambridge, MN, Cambridge Muni, RNAV (GPS) RWY 16, Orig

Cambridge, MN, Cambridge Muni, RNAV (GPS) RWY 34, Orig

Cloquet, MN, Cloquet Carlton County, VOR/DME-A, Amdt 5B, CANCELLED

Fosston, MN, Fosston Muni, NDB RWY 34, Amdt 4

Fosston, MN, Fosston Muni, RNAV (GPS) RWY 16, Orig

Fosston, MN, Fosston Muni, RNAV (GPS) RWY 34, Orig

Fosston, MN, Fosston Muni, Takeoff Minimums and Obstacle DP, Amdt 2

St Paul, MN, St Paul Downtown Holman Fld, RNAV (GPS) RWY 14, Amdt 1

Cape Girardeau, MO, Cape Girardeau Muni, Takeoff Minimums and Obstacle DP, Amdt 8

Tupelo, MS, Tupelo Rgnl, RNAV (GPS) RWY 18, Orig-A

Tupelo, MS, Tupelo Rgnl, RNAV (GPS) RWY 36, Orig-A

Elmira/Corning, NY, Elmira/Corning Rgnl, RNAV (GPS) RWY 6, Amdt 1

Elmira/Corning, NY, Elmira/Corning Rgnl, RNAV (GPS) RWY 24, Amdt 1

Sheboygan, WI, Sheboygan County Memorial, ILS OR LOC/DME RWY 21, Amdt 4

Sheboygan, WI, Sheboygan County Memorial, VOR RWY 3, Amdt 8, CANCELLED

Effective 31 May, 2012

St Mary's, AK, St Mary's, LOC/DME RWY 17, Amdt 5

St Mary's, AK, St Mary's, NDB RWY 35, Amdt 1, CANCELLED

St Mary's, AK, St Mary's, RNAV (GPS) RWY 17, Amdt 3

St Mary's, AK, St Mary's, RNAV (GPS) RWY 35, Amdt 2

St Mary's, AK, St Mary's, RNAV (GPS) Z RWY 17, Orig, CANCELLED

St Mary's, AK, St Mary's, RNAV (GPS) Z RWY 35, Orig, CANCELLED

Valdez, AK, Valdez Pioneer Field, JMAAL TWO Graphic DP

Headland, AL, Headland Muni, RNAV (GPS) RWY 9, Amdt 1

Headland, AL, Headland Muni, RNAV (GPS) RWY 27, Amdt 1

Jasper, AL, Walker County-Bevill Field, ILS OR LOC/DME RWY 27, Amdt 1

Jasper, AL, Walker County-Bevill Field, RNAV (GPS) RWY 27, Orig

Jasper, AL, Walker County-Bevill Field, Takeoff Minimums and Obstacle DP, Amdt 1

Jasper, AL, Walker County-Bevill Field, VOR/DME-A, Amdt 3

Napa, CA, Napa County, NAPAA TWO Graphic DP

San Luis Obispo, CA, San Luis County Rgnl, ILS RWY 11, Amdt 2

San Luis Obispo, CA, San Luis County Rgnl, LOC RWY 11, Orig

San Luis Obispo, CA, San Luis County Rgnl, RNAV (GPS) RWY 11, Amdt 1

Baxley, GA, Baxley Muni, NDB RWY 8, Amdt 2

Baxley, GA, Baxley Muni, RNAV (GPS) RWY 8, Amdt 1

Baxley, GA, Baxley Muni, RNAV (GPS) RWY 26, Amdt 1

Baxley, GA, Baxley Muni, Takeoff Minimums and Obstacle DP, Amdt 1

Opelousas, LA, St Landry Parish-Ahart Field, NDB RWY 18, Amdt 3

Opelousas, LA, St Landry Parish-Ahart Field, RNAV (GPS) RWY 18, Amdt 1

Opelousas, LA, St Landry Parish-Ahart Field, RNAV (GPS) RWY 36, Amdt 1

Opelousas, LA, St Landry Parish-Ahart Field, Takeoff Minimums and Obstacle DP, Amdt 1

Beaufort, NC, Michael J. Smith Field, NDB RWY 14, Amdt 1

Beaufort, NC, Michael J. Smith Field, NDB RWY 21, Amdt 1

Beaufort, NC, Michael J. Smith Field, RNAV (GPS) RWY 3, Amdt 1

Beaufort, NC, Michael J. Smith Field, RNAV (GPS) RWY 8, Amdt 1

Beaufort, NC, Michael J. Smith Field, RNAV (GPS) RWY 14, Amdt 1

Beaufort, NC, Michael J. Smith Field, RNAV (GPS) RWY 32, Amdt 1

Superior, NE., Superior Muni, RNAV (GPS) RWY 14, Orig

Superior, NE., Superior Muni, RNAV (GPS) RWY 32, Orig

Superior, NE., Superior Muni, Takeoff Minimums and Obstacle DP, Amdt 1

Superior, NE., Superior Muni, VOR/DME-A, Amdt 2

Los Alamos, NM, Los Alamos, RNAV (GPS) Y RWY 27, Amdt 1

Los Alamos, NM, Los Alamos, RNAV (GPS) Z RWY 27, Orig

Los Alamos, NM, Los Alamos, Takeoff Minimums and Obstacle DP, Amdt 1

Wauseon, OH, Fulton County, NDB OR GPS RWY 27, Amdt 7A, CANCELLED

Wauseon, OH, Fulton County, RNAV (GPS) RWY 9, Orig

Wauseon, OH, Fulton County, RNAV (GPS) RWY 27, Orig

Providence, RI, Theodore Francis Green State, VOR RWY 5, Amdt 14

Victoria, TX, Victoria Rgnl, ILS OR LOC/DME RWY 13L, Amdt 12

Victoria, TX, Victoria Rgnl, RNAV (GPS) RWY 13L, Amdt 1

Victoria, TX, Victoria Rgnl, RNAV (GPS) RWY 31R, Amdt 1

Victoria, TX, Victoria Rgnl, Takeoff Minimums and Obstacle DP, Amdt 1

Victoria, TX, Victoria Rgnl, VOR RWY 13L, Amdt 17

Victoria, TX, Victoria Rgnl, VOR/DME RWY 31R, Amdt 7

Seattle, WA, Boeing Field/King County Intl, Takeoff Minimums and Obstacle DP, Amdt 7

Toledo, WA, Ed Carlson Memorial Field-South Lewis County, ATASY TWO Graphic DP

Tomahawk, WI, Tomahawk Rgnl, RNAV (GPS) RWY 9, Amdt 2

Tomahawk, WI, Tomahawk Rgnl, RNAV (GPS) RWY 27, Amdt 2

Tomahawk, WI, Tomahawk Rgnl, Takeoff Minimums and Obstacle DP, Amdt 1

Tomahawk, WI, Tomahawk Rgnl, VOR/DME-A, Amdt 1, CANCELLED

RESCINDED: On March 16, 2012 (77 FR 15576), the FAA Published an Amendment in Docket No. 30831, Amdt No. 3468 to Part 97 of the Federal Aviation Regulations Under section 97.33. The following entries, effective 5 April, 2012, Are Hereby Rescinded in Their Entirety

Orlando, FL, Executive, ILS OR LOC/DME RWY 25, Orig.

RESCINDED: On March 28, 2012 (77 FR 18681), the FAA Published an Amendment in Docket No. 30833, Amdt No. 3470 to Part 97 of the Federal Aviation Regulations Under section 97.33. The following entries, effective 3 May, 2012, Are Hereby Rescinded in Their Entirety

Pocatello, ID, Pocatello Rgnl, VOR RWY 3, Amdt 17.

RESCINDED: On March 28, 2012 (77 FR 18681), the FAA Published an Amendment in Docket No. 30833, Amdt No. 3470 to Part 97 of the Federal Aviation Regulations Under section 97.33. The following entries, effective 31 May, 2012, Are Hereby Rescinded in Their Entirety

Lake Havasu City, AZ, Lake Havasu City, Takeoff Minimums and Obstacle DP, Amdt 2

Lake Havasu City, AZ, Lake Havasu City, VOR/DME-A, Amdt 1.

[FR Doc. 2012-8964 Filed 4-13-12; 8:45 am]

BILLING CODE 4910-13-P